DEPARTMENT OF COMMERCE

National Oceanic and Atmospheric Administration

[RTID 0648-XD549]

Fisheries of the Exclusive Economic Zone Off Alaska; Alaska Groundfish and Halibut Seabird Working Group; Public Meeting

AGENCY: National Marine Fisheries Service (NMFS), National Oceanic and Atmospheric Administration (NOAA), Commerce.

ACTION: Notice of public meeting.

SUMMARY: NMFS Alaska Groundfish and Halibut Seabird Working Group will meet to discuss seabird-fisheries interactions (vessel collisions), development of an Alaska coordinated strategic plan for reporting and monitoring fisheries interactions with seabirds listed under the Endangered Species Act, and an update on whether or not the short-tailed albatross is actually two distinct species.

DATES: The meeting will be held on December 6, 2023, from 1 p.m. to 4:30 p.m., and on December 7, 2023, from 9 a.m. to 4:30 p.m., Alaska Daylight Time.

ADDRESSES: The meeting will be held virtually.

FOR FURTHER INFORMATION CONTACT: Josh Moffi, 907-586-7072.

SUPPLEMENTARY INFORMATION: The Alaska Groundfish and Halibut Seabird Working Group formed as a result of the 2015 biological opinion on effects of the Fishery Management Plans for the Gulf of Alaska and Bering Sea/Aleutian Islands groundfish fisheries on short-tailed albatross. The working group is tasked with reviewing information for mitigating effects of the groundfish and halibut fisheries on short-tailed albatross and other seabirds. The workgroup will hold a virtual meeting December 6 and 7, 2023. Meeting topics include seabird/fisheries interactions (vessel collisions), development of an Alaska coordinated strategic plan for reporting and monitoring fisheries interactions with birds listed under the Endangered Species Act, and update on the short-tailed albatross population. For participation information and meeting agenda, please contact Josh Moffi (joshua.moffi@noaa.gov).

NMFS will keep the North Pacific Fisheries Management Council (Council) apprised of the working group's activities and any resulting recommendations for methods to reduce seabird bycatch. Any changes to seabird avoidance regulations are expected to follow the standard Council process.

Special Accommodations

Requests for sign language interpretation or other auxiliary aids should be directed to Josh Moffi, 907-586-7072, at least 5 working days prior to the meeting date.

Dated: November 16, 2023.
Kelly Denit,
Director, Office of Sustainable Fisheries, National Marine Fisheries Service.

[FR Doc. 2023-25695 Filed 11-20-23; 8:45 am]

BILLING CODE 3510-22-P